SMALL BUSINESS ADMINISTRATION

Public Federal Regulatory Enforcement Fairness Hearing; Region II Regulatory Fairness Board

The U.S. Small Business Administration (SBA) Region II Regulatory Fairness Board and the SBA Office of the National Ombudsman will hold a public hearing on Friday, January 26, 2007, at 10 a.m. The meeting will take place at Madison Square Garden—Theater Entrance, 7th Avenue between W 32nd and W 33rd Streets, New York, NY 10001. The purpose of the meeting is to receive comments and testimony from small business owners, small government entities, and small non-profit organizations concerning regulatory enforcement and compliance actions taken by Federal agencies.

Anyone wishing to attend or to make a presentation must contact Herbert Austin, in writing or by fax, in order to be placed on the agenda. Herbert Austin, Deputy District Director, SBA, New York District Office, 26 Federal Plaza, Suite 3100, New York, NY 10278, phone (212) 264-1482 and fax (202) 401-2224, e-mail: Herbert.austin@sba.gov.

For more information, see our Web site at http://www.sba.gov/ombudsman.

Matthew Teague,
Committee Management Officer.

[FR Doc. E7-400 Filed 1-12-07; 8:45 am]

BILLING CODE 8025-01-P